DEPARTMENT OF COMMERCE

International Trade Administration

[A-533-877, A-570-064, C-533-878, C-570-065]

Stainless Steel Flanges From the People's Republic of China and India: Final Results of Changed Circumstances Reviews and Revocation of the Antidumping and Countervailing Duty Orders, in Part

AGENCY: Enforcement and Compliance, International Trade Administration, Department of Commerce.

SUMMARY: The U.S. Department of Commerce (Commerce) is issuing the final results of changed circumstances reviews (CCRs) of the antidumping duty and countervailing duty orders on stainless steel flanges from the People's Republic of China (China) and India to revoke the orders, in part, with respect to stainless steel flanges produced to specification SAE J518 (or its international equivalent, ISO 6162).

DATES: Applicable May 17, 2024.

FOR FURTHER INFORMATION CONTACT: Sun Cho, AD/CVD Operations, Office V, Enforcement and Compliance, International Trade Administration, U.S. Department of Commerce, 1401 Constitution Avenue NW, Washington, DC 20230; telephone: (202) 482-6458.

SUPPLEMENTARY INFORMATION:

Background

On March 29, 2024, Commerce published its initiation and preliminary results in the CCRs on stainless steel flanges from China and India,¹ in which Commerce found that changed circumstances warranted revocation of the Orders,² in part, with respect to certain stainless steel flanges that are produced to specification SAE J518 (or its international equivalent, ISO 6162), and not to any other specification. Commerce provided interested parties with the opportunity to comment and request a public hearing regarding the Preliminary Results. Commerce did not receive any comments from interested parties.

¹ See Stainless Steel Flanges from the People's Republic of China and India: Initiation and Preliminary Results of Changed Circumstances Reviews and Intent to Revoke the Antidumping and Countervailing Duty Orders, in Part, 89 FR 22120 (March 29, 2024) (Preliminary Results).

² See Stainless Steel Flanges from the People's Republic of China: Countervailing Duty Order, 83 FR 26006 (June 5, 2018) (China CVD Order); Stainless Steel Flanges from the People's Republic of China: Antidumping Duty Order, 83 FR 37468 (August 1, 2018) (China AD Order); Stainless Steel Flanges from India: Antidumping Duty Order, 83 FR 50639 (October 9, 2018) (India AD Order); and Stainless Steel Flanges from India: Countervailing Duty Order, 83 FR 50336 (October 5, 2018) (India CVD Order) (collectively, Orders).

Final Results of Changed Circumstances Reviews and Revocation of the Orders, in Part

We conducted these CCRs based on a request from Anchor Fluid Power (Anchor), an importer of stainless steel flanges. Anchor requested that Commerce issue the final results of these CCRs on an expedited basis (i.e., within 45 days of publication of the Preliminary Results in the Federal Register) pursuant to 19 CFR 351.216(e) or by May 13, 2024.³ Because no party submitted comments opposing the Preliminary Results of these CCRs, and the record contains no other information or evidence that calls into question the Preliminary Results, Commerce determines, pursuant to sections 751(d)(1) and 782(h) of the Tariff Act of 1930, as amended (the Act), and 19 CFR 351.222(g), that there are changed circumstances that warrant revocation of the Orders, in part, with respect to the stainless steel flanges subject to Anchor's request. Consequently, there is no decision memorandum accompanying this notice.

³ See Anchor's Letter, “Request to Expedite Final Results of Changed Circumstances Review,” dated April 17, 2024.

Specifically, because producers accounting for substantially all of the production of the domestic like product to which the Orders pertain have not expressed interest in maintaining the relief provided by the Orders with respect to certain stainless steel flanges, as described below, Commerce is revoking the Orders, in part, with respect to the following product:

The stainless steel flanges produced to specification SAE J518 (or its international equivalent, ISO 6162) and not to any other specification.

The revised scope for the Orders is below.

Scope of the Orders

The scope of the Orders covers certain forged stainless steel flanges, whether unfinished, semi-finished, or finished (certain forged stainless steel flanges). Certain forged stainless steel flanges are generally manufactured to, but not limited to, the material specification of ASTM/ASME A/SA182 or comparable domestic or foreign specifications. Certain forged stainless steel flanges are made in various grades such as, but not limited to, 304, 304L, 316, and 316L (or combinations thereof). The term “stainless steel” used in this scope refers to an alloy steel containing, by actual weight, 1.2 percent or less of carbon and 10.5 percent or more of chromium, with or without other elements. Unfinished stainless steel flanges possess the approximate shape of finished stainless steel flanges and have not yet been machined to final specification after the initial forging or like operations. These machining processes may include, but are not limited to, boring, facing, spot facing, drilling, tapering, threading, beveling, heating, or compressing. Semi-finished stainless steel flanges are unfinished stainless steel flanges that have undergone some machining processes.

The scope includes six general types of flanges. They are: (1) weld neck, generally used in butt-weld line connection; (2) threaded, generally used for threaded line connections; (3) slip-on, generally used to slide over pipe; (4) lap joint, generally used with stub-ends/butt-weld line connections; (5) socket weld, generally used to fit pipe into a machine recession; and (6) blind, generally used to seal off a line. The sizes and descriptions of the flanges within the scope include all pressure classes of ASME B16.5 and range from one-half inch to twenty-four inches nominal pipe size. Specifically excluded from the scope of the Orders are cast stainless steel flanges. Cast stainless steel flanges generally are manufactured to specification ASTM A351.

Also excluded from the scope are stainless steel flanges produced to specification SAE J518 (or its international equivalent, ISO 6162) and not to any other specification.

The country of origin for certain forged stainless steel flanges, whether unfinished, semi-finished, or finished is the country where the flange was forged. Subject merchandise includes stainless steel flanges as defined above that have been further processed in a third country. The processing includes, but is not limited to, boring, facing, spot facing, drilling, tapering, threading, beveling, heating, or compressing, and/or any other processing that would not otherwise remove the merchandise from the scope of the Orders if performed in the country of manufacture of the stainless steel flanges.

Merchandise subject to the Orders is typically imported under headings 7307.21.1000 and 7307.21.5000 of the Harmonized Tariff Schedule of the United States (HTSUS). While HTSUS subheadings and ASTM specifications are provided for convenience and customs purposes, the written description of the scope is dispositive.

Application of the Final Results of These Reviews

Anchor requested that Commerce apply the final results of these reviews retroactively. Commerce has discretion to determine the applicable date of the determination pursuant to section 751(d)(3) the Act, which provides that “{a} determination under this section to revoke an order . . . shall apply with respect to unliquidated entries of the subject merchandise which are entered, or withdrawn from warehouse, for consumption on or after the date determined by the administering authority.” Commerce also notes that substantially all of the domestic industry, which is in support of the partial revocation, also agrees with applying the partial revocation retroactively. Because Anchor did not provide a specific date as to which it believes the final results should retroactively apply, Commerce is applying the partial revocation to unliquidated entries of merchandise subject to the CCRs that were entered or withdrawn from warehouse, for consumption, on or after the day following the last day of the period covered by the most recently-completed administrative review of each of the Orders, and are not already subject to automatic liquidation instructions.

Instructions to U.S. Customs and Border Protection (CBP)

Because we determine there are changed circumstances that warrant the revocation of the Orders, in part, we will instruct CBP to liquidate without regard to antidumping and countervailing duties, and to refund any estimated antidumping and countervailing duties on all unliquidated entries of the merchandise covered by this partial revocation, effective as follows: January 1, 2022 (India CVD Order); October 1, 2022 (India AD Order); January 1, 2023 (China CVD Order); and August 1, 2023 (China AD Order).

Commerce intends to issue instructions to CBP no earlier than 35 days after the date of publication of these final results of CCRs in the Federal Register. If a timely summons is filed at the U.S. Court of International Trade, the instructions will direct CBP not to liquidate relevant entries until the time for parties to file a request for a statutory injunction has expired (i.e., within 90 days of publication).

Administrative Protective Order

This notice serves as a final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is published in accordance with sections 751(b)(1) and 777(i) of the Act, 19 CFR 351.216, 19 CFR 351.221(c)(3), and 19 CFR 351.222.

Dated: May 10, 2024.
Ryan Majerus,
Deputy Assistant Secretary for Policy and Negotiations, performing the non-exclusive functions and duties of the Assistant Secretary for Enforcement and Compliance.

[FR Doc. 2024-10789 Filed 5-16-24; 8:45 am]

BILLING CODE 3510-DS-P